DEPARTMENT OF LABOR

Office of the Secretary

Submission for OMB Review; Comment Request

February 24, 2004.

The Department of Labor (DOL) has submitted the following public information collection request (ICR) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other form of information technology, e.g., permitting electronic submission of responses.

Agency: Occupational Safety and Health Administration.

Type of Review: Extension of a currently approved collection

Title: Access to Employee Exposure and Medical Records; (29 CFR 1910.1020).

OMB Number: 1218-0065.

Frequency: On occasion.

Affected Public: Business or other for-profit; Federal Government; and State, local or Tribal government.

Number of Respondents: 717,268.

Number of Annual Responses: 4,577,613.

Estimated Time Per Response: Varies from 5 minutes (.08 hour) to 10 minutes (.17 hour).

Total Burden Hours: 561,308 hours.

Total Annualized capital/startup costs: $0.

Total Annual Costs (operating/maintaining systems or purchasing services): $0.

Description: Under the authority granted by the OSH Act, OSHA published a health regulation governing access to employee exposure-monitoring data and medical records. This regulation does not require employers to collect any information or to establish any new systems of records. Rather, it requires that employers provide employees, their designated representatives, and OSHA with access to employee exposure-monitoring and medical records, and any analysis resulting from these records, whether or not the records are mandated by specific occupational safety and health standards. In this regard, the regulation specifies requirements for record access, record retention, employee information, trade-secret management, and record transfer. Accordingly, the Agency attributes the burden hours and costs associated with exposure monitoring and measurement, medical surveillance, and the other activities required to generate the data governed by the regulation to the health standards that specify these activities; therefore, OSHA did not include these burden hours and costs in this ICR.

Access to exposure and medical information enables employees and their designated representatives to become directly involved in identifying and controlling occupational health hazards, as well as managing and preventing occupationally-related health impairment and disease.

Ira L. Mills,
Departmental Clearance Officer.

[FR Doc. 04-4548 Filed 3-1-04; 8:45 am]

BILLING CODE 4510-23-M